DEPARTMENT OF ENERGY

Federal Energy Regulatory Commission

[Docket No. AD19-19-000]

Grid-Enhancing Technologies; Notice Inviting Post-Workshop Comments

On November 5 and 6, 2019, Federal Energy Regulatory Commission (Commission) staff convened a workshop to discuss grid-enhancing technologies (GETs) that increase the capacity, efficiency, or reliability of transmission facilities.

All interested persons are invited to file post-workshop comments on any or all of the questions listed in the attachment to this Notice. Commenters are encouraged to organize responses using the numbering and order in the attached questions. Commenters are also invited to reference material previously filed in this docket, including workshop transcripts and submitted opening remarks, but are encouraged to avoid repetition or replication of previous material. To the extent your response addresses issues raised in other current proceedings before the Commission, such as the Inquiry Regarding the Commission's Electric Transmission Incentives (Docket No. PL19-3-000) or Managing Transmission Line Ratings (Docket No. AD19-15-000), please provide references to pertinent comments in those proceedings in your response. Comments must be submitted on or before 21 days from the date of this Notice.

For more information about this Notice, please contact:

Samin Peirovi (Technical Information), Office of Energy Policy and Innovation, Federal Energy Regulatory Commission, 888 First Street NE, Washington, DC 20426, (202) 502-8080, Samin.Peirovi@ferc.gov

Meghan O'Brien (Legal Information), Office of the General Counsel, Federal Energy Regulatory Commission, 888 First Street NE, Washington, DC 20426, (202) 502-6137, Meghan.O'Brien@ferc.gov

Dated: January 17, 2020.
Nathaniel J. Davis, Sr.,
Deputy Secretary.

[FR Doc. 2020-01183 Filed 1-24-20; 8:45 am]

BILLING CODE 6717-01-P